CONSUMER PRODUCT SAFETY COMMISSION

16 CFR Ch. II

[Docket No. CPSC-2015-0022]

Petition Requesting Rulemaking on Products Containing Organohalogen Flame Retardants; Notice of Opportunity for Oral Presentation of Comments

Correction

In proposed rule document 2015-30694 beginning on page 75955 in the issue of Monday, December 7, 2015, make the following correction:

On page 75956, in the first column, in the second paragraph, in the fifth and sixth lines “is 866-623-8636 and participant code is 4816474” should read “will be provided to remote participants prior to the December 9, 2015 hearing.”.

[FR Doc. C1-2015-30694 Filed 12-14-15; 8:45 am]

BILLING CODE 1505-01-D